DEPARTMENT OF THE TREASURY

Submission for OMB Review; Comment Request

March 21, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 29, 2002 to be assured of consideration.

Internal Revenue Service

OMB Number: 1545-1767.

Regulation Project Number: REG-107644-98 Final.

Type of Review: Extension.

Title: Dollar-Value LIFO Regulations; Inventory Price Index Computation Method.

Description: The primary reason for obtaining this information is to ensure compliance by taxpayers electing to use both the LIFO inventory method and the IPIC method of accounting for their dollar-value inventory pools. Most respondents will be manufacturers, wholesalers, and retailers of tangible personal property.

Respondents: Business or other for-profit.

Estimated Number of Recordkeepers: 1.

Estimated Burden Hours Per Recordkeeper: 1 hour.

Frequency of Response: On occasion.

Estimated Total Recordkeeping Burden: 1 hour.

OMB Number: 1545-1769.

Revenue Procedure Number: Revenue Procedure 2002-10.

Type of Review: Extension.

Title: Procedures for IRAs, SEPs and SIMPLEs IRA Plans.

Description: The Economic Growth and Tax Relief Reconciliation Act of 2001 made numerous changes affecting IRAs, SEPs, and SIMPLEs IRA plans. These changes are effective beginning January 1, 2002, and to take advantage of the new law, these retirement plans must be amended and participants notified of the amendments. Revenue Procedure 2002-10 provides guidance on this process and provides an extended period for making the amendments.

Respondents: Business or other for-profit, individuals or households, not-for-profit institutions, farms.

Estimated Number of Respondents: 378,000.

Estimated Burden Hours Per Respondent: 20 hours.

Frequency of Response: On occasion.

Estimated Total Reporting Burden: 7,371,000 hours.

Clearance Officer: George Freeland, Internal Revenue Service, Room 5577, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 02-7564 Filed 3-28-02; 8:45 am]

BILLING CODE 4830-01-P